DEPARTMENT OF THE INTERIOR

Fish and Wildlife Service

[FWS-R3-R-2010-N171; 30136-1265-0000-S3]

Tamarac National Wildlife Refuge, Becker County, and Tamarac Wetland Management District, Minnesota

AGENCY: U.S. Fish and Wildlife Service, Department of the Interior.

ACTION: Notice of availability: Final Comprehensive Conservation Plan and Finding of No Significant Impact for Environmental Assessment.

SUMMARY: We, the U.S. Fish and Wildlife Service (Service), announce the availability of the FinalComprehensive Conservation Plan (CCP) and Finding of No Significant Impact (FONSI) for the Environmental Assessment (EA) for Tamarac National Wildlife Refuge (NWR) and Tamarac Wetland Management District (WMD). Goals and objectives in the CCP describe how the agency intends to manage the refuge over the next 15 years.

ADDRESSES: Copies of the Final CCP and FONSI/EA may be viewed at the Tamarac National Wildlife Refuge Officeor at public libraries near the refuge. You may also request a copy by any of the following methods.

1. Agency Web site: View or download a copy of the document at http://www.fws.gov/midwest/planning/Tamarac/.

2. E-mail: r3planning@fws.gov. Include “TamaracFinal CCP/EA” in the subject line of the message.

3. Mail: Tamarac National Wildlife Refuge, 35704 County Road 26, Rochert, Minnesota 56578.

A limited number of hardcopies will be available for distribution at the Refuge Headquarters.

FOR FURTHER INFORMATION CONTACT: Barbara Boyle, 218-847-2641.

SUPPLEMENTARY INFORMATION:

Introduction

With this notice, we complete the CCP process for Tamarac NWR and WMD, which we began by publishing a notice of intent on (72 FR 27587, May 16, 2007). For more information about the initial process, see that notice. We released the draft CCP and EA to the public, announcing and requesting comments in a notice of availability on (75 FR 39038, July 7, 2010).

The 42,738-acre Tamarac NWR was established in 1938. The Refuge includes 2,180 Federally-designated wilderness acres. The Tamarac WMD consists of 8,577 acres of wetland easements distributed throughout five counties.

The Draft CCP and EA were officially released for public review on July 7, 2010; the 31-day comment period ended on August 6, 2010. Planning information was sent to approximately 220 individuals and organizations for review and announced through local media outlets, resulting in six comment submissions. During the comment period the Refuge also hosted an open house to receive public comments and feedback on the CCP and EA documents. Thirteen individuals attended this event. Because few changes to the preferred alternative were recommended by Refuge audiences during the public review period, only minor changes were made to the drafts in preparing the final CCP/EA documents.

Selected Alternative

Based on input and feedback during the planning process, Alternative A was selected as the preferred alternative.The preferred alternative for Tamarac NWR over the next 15 years directs management of habitats to focus on maintaining and using ecological processes that shaped these communities prior to European settlement and will allow for some emphasis of priority bird habitat. Wildlife-dependant recreation opportunities, biological surveys and monitoring activities, and native habitats would all increase under the preferred alternative.

Background

The National Wildlife Refuge System Administration Act of 1966, as amended by the National Wildlife Refuge System Improvement Act of 1997 (16 U.S.C. 668dd-668ee et seq.), requires the Service to develop a CCP for each National Wildlife Refuge and Wetland Management District. The purpose in developing a CCP is to provide managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: August 23, 2010.
Charles M. Wooley,
Acting Regional Director, U.S. Fish and Wildlife Service, Fort Snelling, Minnesota.

[FR Doc. 2010-27979 Filed 11-4-10; 8:45 am]

BILLING CODE 4310-55-P